DEPARTMENT OF LABOR

Employment and Training Administration

Workforce Investment Act; Lower Living Standard Income Level

AGENCY: Employment and Training Administration, Labor.

ACTION: Notice of determination of Lower Living Standard Income Level.

SUMMARY: Under Title I of the Workforce Investment Act (WIA) of 1998 (Pub. L. 105-220), the Secretary of Labor annually determines the Lower Living Standard Income level (LLSIL) for uses described in the law. WIA defines the term “Low Income Individual” as one who qualifies under various criteria, including an individual who received income for a six-month period that does not exceed the higher level of the poverty line or 70 percent of the LLSIL. This issuance provides the Secretary's annual LLSIL for 2011 and references the current 2011 Health and Human Services “Poverty Guidelines.”

DATES: Effective Date: This notice is effective on the date of publication in the Federal Register.

ADDRESSES: Send questions about the Lower Living Standard Income Level calculations: Mr. Samuel Wright, Department of Labor, Employment and Training Administration, 200 Constitution Avenue, NW., Room S-4231, Washington, DC 20210.

Send written youth program comments to: Mr. Evan Rosenberg, Department of Labor, Employment and Training Administration, 200 Constitution Avenue, NW., Room N-4464, Washington, DC 20210.

For Further Information on LLSIL:

Please contact Mr. Samuel Wright, Telephone 202-693-2870; Fax 202-693-3015 (these are not toll free numbers); e-mail address wright.samuel.e@dol.gov.

For Further Information on Federal Youth Programs:

Evan Rosenberg, Telephone 202-693-3593; Fax 202-693-3532 (these are not toll free numbers).

SUPPLEMENTARY INFORMATION: It is the purpose of the Workforce Investment Act of 1998, to provide workforce investment activities through statewide and local workforce investment systems that increase the employment, retention, and earnings of participants. The Workforce Investment Act programs are intended to increase the occupational skill attainment by participants and the quality of the workforce thereby reducing welfare dependency, and enhance the productivity and competitiveness of the Nation.

The LLSIL is used for several purposes under WIA. Specifically, WIA Section 101(25) defines the term “low income individual” for eligibility purposes, and Sections 127(b)(2)(C) and 132(b)(1)(B)(v)(IV) define the terms “disadvantaged youth” and “disadvantaged adult” in terms of the poverty line or LLSIL for State formula allotments. The Governor and State/local workforce investment boards (WIBs) use the LLSIL for determining eligibility for youth and eligibility for adults for certain services. We encourage the Governors and State/local WIBs to consult WIA regulations and the preamble to the WIA Final Rule (published at 65 FR 49294 August 11, 2000) for more specific guidance in applying the LLSIL to program requirements. The Department of Health and Human Services (HHS) published the most current poverty-level guidelines in the Federal Register January 20, 2011 (Volume 76, Number 13) PP 3637-3638. The HHS 2011 Poverty guidelines may also be found on the Internet at: http://aspe.hhs.gov/poverty/11poverty.shtml. ETA plans to have the 2011 LLSIL available on its Web site at [http://www.doleta.gov/llsil/2011/].

WIA Section 101(24) defines the LLSIL as “that income level (adjusted for regional, metropolitan, urban and rural differences and family size) determined annually by the Secretary [of Labor] based on the most recent lower living family budget issued by the Secretary.” The most recent lower living family budget was issued by the Secretary in the fall of 1981. The four-person urban family budget estimates, previously published by the Bureau of Labor Statistics (BLS), provided the basis for the Secretary to determine the LLSIL. BLS terminated the four-person family budget series in 1982, after publication of the fall 1981 estimates. Currently, BLS provides data to ETA through which ETA develops the LLSIL tables, as provided in the Appendices.

ETA published the 2010 updates to the LLSIL in the Federal Register of May 7, 2010, pp 25296-25300. This notice again updates the LLSIL to reflect cost of living increases for 2010, by applying the percentage change in the most recent 2010 Consumer Price Index for All Urban Consumers (CPI-U) for an area, compared with the 2009 CPI-U to each of the May 7, 2010 LLSIL figures. Those updated figures for a family-of-four are listed in Appendix A, Table 1, by region for both metropolitan and non-metropolitan areas. Figures in all of the accompanying tables, in the Appendices, are rounded up to the nearest dollar. Since low income individuals, “disadvantaged adult” and “disadvantaged youth” may be determined by family income at 70 percent of the LLSIL, pursuant to WIA Sections 101(25), 127(b)(2)(C), and 132(b)(1)(B)(v)(IV), respectively, those figures are listed as well.

Jurisdictions included in the various regions, based generally on the Census Regions of the U.S. Department of Commerce, are as follows:

Northeast

Connecticut

Maine

Massachusetts

New Hampshire

New Jersey

New York

Pennsylvania

Rhode Island

Vermont

Virgin Islands

Midwest

Illinois

Indiana

Iowa

Kansas

Michigan

Minnesota

Missouri

Nebraska

North Dakota

Ohio

South Dakota

Wisconsin

South

Alabama

American Samoa

Arkansas

Delaware

District of Columbia

Florida

Georgia

Northern Marianas

Oklahoma

Palau

Puerto Rico

South Carolina

Kentucky

Louisiana

Marshall Islands

Maryland

Micronesia

Mississippi

North Carolina

Tennessee

Texas

Virginia

West Virginia

West

Arizona

California

Colorado

Idaho

Montana

Nevada

New Mexico

Oregon

Utah

Washington

Wyoming

Additionally, separate figures have been provided for Alaska, Hawaii, and Guam as indicated in Appendix B, Table 2.

For Alaska, Hawaii, and Guam, the year 2010 figures were updated from the April, 2010 “State Index” based on the ratio of the urban change in the State (using Anchorage for Alaska and Honolulu for Hawaii and Guam) compared to the West regional metropolitan change, and then applying that index to the West regional metropolitan change.

Data on 23 selected Metropolitan Statistical Areas (MSAs) are also available. These are based on annual and semiannual CPI-U changes for a 12-month period ending in December 2010. The updated LLSIL figures for these MSAs and 70 percent of the LLSIL are reported in Appendix C, Table 3.

Appendix D, Table 4 lists each of the various figures at 70 percent of the updated 2010 LLSIL for family sizes of one to six persons. Because tables 1-3 only list the LLSIL for a family of four, table 4 can be used to determine the LLSIL for families of one to six persons. For families larger than six persons, an amount equal to the difference between the six-person and the five-person family income levels should be added to the six-person family income level for each additional person in the family. Where the poverty level for a particular family size is greater than the corresponding LLSIL figure, the figure is shaded. A modified Excel version of Appendix D, Table 4, with the area names, will be available on the Department of Labor, Employment and Training Administration LLSIL Web page at [http://www.doleta.gov/llsil/2011/]. Appendix E, Table 5, indicates 100 percent of LLSIL for family sizes of one to six and is used to determine self-sufficiency as noted at 20 CFR 663.230 of the WIA regulations and WIA Section 134(d)(3)(A)(ii).

Use of These Data

Governors should designate the appropriate LLSILs for use within the State from Appendices A, B, and C, containing Tables 1 through 3. Appendices D and E, which contain Tables 4 and 5, which adjusts a family of four figure for larger and smaller families, may be used with any LLSIL designated. The Governor's designation may be provided by disseminating information on MSAs and metropolitan and non-metropolitan areas within the State or it may involve further calculations. For example, the State of New Jersey may have four or more LLSIL figures for Northeast metropolitan, Northeast non-metropolitan, portions of the State in the New York City MSA, and those in the Philadelphia MSA. If a workforce investment area includes areas that would be covered by more than one figure, the Governor may determine which is to be used.

Under 20 CFR 661.110, a State's policies and measures for the workforce investment system shall be accepted by the Secretary to the extent that they are consistent with the WIA and the WIA regulations.

Disclaimer on Statistical Uses

It should be noted, the publication of these figures is only for the purpose of meeting the requirements specified by WIA as defined in the law and regulations. BLS has not revised the lower living family budget since 1981, and has no plans to do so. The four-person urban family budget estimates series has been terminated. The CPI-U adjustments used to update the LLSIL for this publication are not precisely comparable, most notably because certain tax items were included in the 1981 LLSIL, but are not in the CPI-U. Thus, these figures should not be used for any statistical purposes, and are valid only for those purposes under WIA as defined in the law and regulations.

Lower Living Standard Income Level for 2011

Under Title I of the Workforce Investment Act of 1998 (Pub. L. 105-220), the Secretary of Labor annually determines the Lower Living Standard Income Level (LLSIL). This Notice announces the LLSIL tables for 2011. WIA requires the Department of Labor to update and publish the LLSIL tables annually. The LLSIL tables are used for several purposes under WIA, including determining eligibility for youth.

Signed at Washington, DC this 14th day of March 2011.
Jane Oates,
Assistant Secretary, Employment and Training Administration.

Attachments

Appendix A

Table 1—Lower Living Standard Income Level
(for a family of four persons) by Region ¹
Region ² | 2011 adjusted LLSIL | 70 percent LLSIL
Northeast
Metro | $39,379 | $27,565
Non-Metro ³ | 37,616 | 26,331
Midwest
Metro | 34,776 | 24,343
Non-Metro | 33,587 | 23,511
South
Metro | 33,506 | 23,454
Non-Metro | 32,771 | 22,940
West
Metro | 37,920 | 26,544
Non-Metro ⁴ | 36,402 | 25,481
¹ For ease of use, these figures are rounded to the next highest dollar.
² Metropolitan area measures were calculated from the weighted average CPI-Us for city size classes A and B/C. Non-metropolitan area measures were calculated from the CPI-Us for city size class D.
³ Non-metropolitan area percent changes for the Northeast region are no longer available. The Non-metropolitan percent change was calculated using the U.S. average CPI-U for city size class D.
⁴ Non-metropolitan area percent changes for the West region are unpublished data.

Appendix B

Table 2—Lower Living Standard Income Level
(for a family of four persons)—Alaska, Hawaii and Guam ¹
Region | 2011 Adjusted LLSIL | 70 percent LLSIL
Alaska
Metro | $45,182 | $31,627
Non-Metro ² | 45,674 | 31,972
Hawaii, Guam
Metro | 48,867 | 34,207
Non-Metro ² | 48,760 | 34,132
¹ For ease of use, these figures are rounded to the next highest dollar.
² Non-Metropolitan percent changes for Alaska, Hawaii and Guam were calculated from the CPI-Us for city size class D in the Western Region.

Appendix C

Table 3—Lower Living Standard Income Level
(for a family of four persons) 23 MSAs ¹
Metropolitan statistical areas (MSAs) | 2011 Adjusted LLSIL | 70 percent LLSIL
Anchorage, AK | $46,311 | $32,418
Atlanta, GA | 31,667 | 22,167
Boston—Brockton—Nashua, MA/NH/ME/CT | 42,142 | 29,499
Chicago—Gary—Kenosha, IL/IN/WI | 36,251 | 25,375
Cincinnati—Hamilton, OH/KY/IN | 34,498 | 24,149
Cleveland—Akron, OH | 35,937 | 25,156
Dallas—Ft. Worth, TX | 31,520 | 22,064
Denver—Boulder—Greeley, CO | 36,195 | 25,337
Detroit—Ann Arbor—Flint, MI | 33,311 | 23,317
Honolulu, HI | 49,943 | 34,960
Houston—Galveston—Brazoria, TX | 31,143 | 21,800
Kansas City, MO/KS | 33,328 | 23,330
Los Angeles—Riverside—Orange County, CA | 40,035 | 28,024
Milwaukee—Racine, WI | 34,380 | 24,066
Minneapolis—St. Paul, MN/WI | 34,395 | 24,077
New York—Northern NJ—Long Island, NY/NJ/CT/PA | 41,706 | 29,194
Philadelphia—Wilmington—Atlantic City, PA/NJ/DE/MD | 37,930 | 26,551
Pittsburgh, PA | 41,394 | 28,976
St. Louis, MO/IL | 32,688 | 22,881
San Diego, CA | 43,731 | 30,612
San Francisco—Oakland—San Jose, CA | 40,514 | 28,360
Seattle—Tacoma—Bremerton, WA | 41,029 | 28,720
Washington—Baltimore, DC/MD/VA/WV ² | 42,336 | 29,635
¹ For ease of use, these figures are rounded to the next highest dollar.
² Baltimore and Washington are now calculated as a single metropolitan statistical area.

Appendix D

Table 4—Seventy Percent of Updated 2011 Lower Living Standard Income Level (LLSIL), by Family Size

To use the seventy percent LLSIL value, where it is stipulated for WIA programs, begin by locating the region or metropolitan area where they reside. These are listed in Tables 1, 2 and 3. After locating the appropriate region or metropolitan statistical area, find the seventy percent LLSIL amount for that location. The seventy percent LLSIL figures are listed in the last column to the right on each of the three tables. These figures apply to a family of four. Larger and smaller family eligibility is based on a percentage of the family of four. To determine eligibility for other size families consult table 4 and the instructions below.

To use Table 4, locate the seventy percent LLSIL value that applies to the individual's region or metropolitan area from Tables 1, 2 or 3. Find the same number in the “family of four” column of Table 4. Move left or right across that row to the size that corresponds to the individual's family unit. That figure is the maximum household income the individual is permitted in order to qualify as economically disadvantaged under WIA.

Where the HHS poverty level for a particular family size is greater than the corresponding LLSIL figure, the LLSIL figure appears in a shaded block. Individuals from these size families may consult the 2011 HHS poverty guidelines found in the Federal Register, Vol. 76, No. 13, January 20, 2011, pp. 3637-3638 (on the Internet at http://aspe.hhs.gov/poverty/11fedreg.shtml) to find the higher eligibility standard. Individuals from Alaska and Hawaii should consult the HHS guidelines for the generally higher poverty levels that apply in their States.

BILLING CODE 4510-FT-P

BILLING CODE 4510-FT-C

Appendix E

Table 5—Updated 2011 LLSIL (100%), By Family Size

To use the LLSIL to determine the minimum level for establishing self-sufficiency criteria at the State or local level, begin by locating the metropolitan area or region from Table 1, 2 or 3. Then locate the appropriate region or metropolitan statistical area and then find the 2011 Adjusted LLSIL amount for that location. These figures apply to a family of four. Locate the corresponding number in the family of four in the column below. Move left or right across that row to the size that corresponds to the individual's family unit. That figure is the minimum figure States must set for determining whether employment leads to self-sufficiency under WIA programs.

Family of one | Family of two | Family of three | Family of four | Family of five | Family of six
$11,221 | $18,383 | $25,230 | $31,143 | $36,755 | $42,983
11,354 | 18,606 | 25,538 | 31,520 | 37,202 | 43,504
11,401 | 18,686 | 25,660 | 31,667 | 37,372 | 43,703
11,777 | 19,293 | 26,482 | 32,688 | 38,576 | 45,109
11,807 | 19,342 | 26,547 | 32,771 | 38,673 | 45,227
11,997 | 19,654 | 26,987 | 33,311 | 39,309 | 45,968
11,998 | 19,667 | 27,004 | 33,328 | 39,332 | 45,999
12,068 | 19,773 | 27,140 | 33,506 | 39,545 | 46,250
12,101 | 19,822 | 27,211 | 33,587 | 39,644 | 46,361
12,377 | 20,287 | 27,852 | 34,380 | 40,573 | 47,448
12,387 | 20,298 | 27,867 | 34,395 | 40,594 | 47,473
12,422 | 20,362 | 27,952 | 34,498 | 40,714 | 47,612
12,520 | 20,523 | 28,169 | 34,776 | 41,036 | 48,000
12,940 | 21,213 | 29,113 | 35,937 | 42,413 | 49,595
13,036 | 21,362 | 29,327 | 36,195 | 42,713 | 49,955
13,051 | 21,396 | 29,363 | 36,251 | 42,782 | 50,036
13,106 | 21,480 | 29,492 | 36,402 | 42,961 | 50,245
13,545 | 22,202 | 30,479 | 37,616 | 44,395 | 51,911
13,652 | 22,373 | 30,718 | 37,920 | 44,746 | 52,337
13,662 | 22,384 | 30,728 | 37,930 | 44,767 | 52,347
14,182 | 23,243 | 31,900 | 39,379 | 46,475 | 54,347
14,414 | 23,620 | 32,429 | 40,035 | 47,242 | 55,256
14,593 | 23,911 | 32,818 | 40,514 | 47,811 | 55,918
14,780 | 24,210 | 33,238 | 41,029 | 48,419 | 56,623
14,910 | 24,432 | 33,538 | 41,394 | 48,854 | 57,131
15,016 | 24,613 | 33,782 | 41,706 | 49,214 | 57,564
15,174 | 24,867 | 34,145 | 42,142 | 49,735 | 58,158
15,247 | 24,988 | 34,298 | 42,336 | 49,966 | 58,435
15,752 | 25,803 | 35,428 | 43,731 | 51,608 | 60,358
16,274 | 26,660 | 36,604 | 45,182 | 53,319 | 62,361
16,450 | 26,949 | 37,000 | 45,674 | 53,898 | 63,030
16,680 | 27,334 | 37,517 | 46,311 | 54,657 | 63,911
17,559 | 28,776 | 39,499 | 48,760 | 57,540 | 67,292
17,602 | 28,835 | 39,590 | 48,867 | 57,669 | 67,447
17,986 | 29,468 | 40,454 | 49,943 | 58,935 | 68,931

[FR Doc. 2011-6510 Filed 3-18-11; 8:45 am]

BILLING CODE 4510-FT-P